DEPARTMENT OF THE INTERIOR

Fish and Wildlife Service

[FWS-R8-ES-2018-N121; FXES11130800000-178-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before November 13, 2018.

ADDRESSES: Document availability and comment submission: Submit requests for copies of the applications and related documents and submit any comments by one of the following methods. All requests and comments should specify the applicant name(s) and application number(s) (e.g., TEXXXXXX).

• Email: permitsr8es@fws.gov.

• U.S. Mail: Daniel Marquez, Endangered Species Program Manager, U.S. Fish and Wildlife Service, Region 8, 2800 Cottage Way, Room W-2606, Sacramento, CA 95825.

FOR FURTHER INFORMATION CONTACT: Daniel Marquez, via phone at 760-431-9440, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Activity | Type of take | Permit action
TE-71121C | Colton Rogers, Concord, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | New.
TE-037806 | Bureau of Land Management, Bakersfield, California | • Kern primrose sphinx moth (Euproserpinus euterpe), • Tipton kangaroo rat (Dipodomys nitratoides nitratoides), • Giant kangaroo rat (Dipodomys ingens), • Conservancy fairy shrimp (Branchinecta conservatio), • Longhorn fairy shrimp (Branchinecta longiantenna), • Vernal pool tadpole shrimp (Lepidurus packardi). | CA | Survey, mark, habitat enhancement, and use pheromones | Capture, handle, release, insert passive integrated transponder (PIT) tags, collect vouchers, perform habitat enhancement, and use pheromones | Renew.
TE-094318 | Jessica Vinje, Escondido, California | • Mexican flannelbush (Fremontodendron mexicanum), • Orcutt's spineflower (Chorizanthe orcuttiana), • Salt marsh bird's-beak (Cordylanthus maritimus ssp. maritimus), • Willowy monardella (Monardella viminea). | CA | remove/reduce to possession from lands under Federal jurisdiction | Collect | Renew and Amend.
TE-85618B | Biological Resources Services LLC., Folsom, California | • California tiger salamander (Santa Barbara County and Sonoma County Distinct Population Segment (DPS)) (Ambystoma californiense). | CA | Survey | Capture, handle, and release | Amend.
TE-205904 | Heritage Environmental Consultants, LLC., Denver, Colorado | • Southwestern willow flycatcher (Empidonax traillii extimus). | CA, NV, AZ, NM | Survey | Survey | Renew.
TE-93824C | Jill Coumoutso, Fontana, California | • Southwestern willow flycatcher (Empidonax traillii extimus). | CA | Survey | Survey | New.
TE-101743 | Daniel Edelstein, Novato, California | • California tiger salamander (Santa Barbara County and Sonoma County Distinct Population Segment (DPS)) (Ambystoma californiense), | CA | Survey | Capture, handle, and release | Renew.
|  | • California Clapper rail (California Ridgway's r.) (Rallus longirostris obsoletus) (R. obsoletus o.).
TE-205609 | Lawrence Kobernus, San Francisco, California | • California tiger salamander (Santa Barbara County and Sonoma County Distinct Population Segment (DPS)) (Ambystoma californiense), • San Francisco garter snake (Thamnophis sirtalis tetrataenia), • Callippe silverspot butterfly (Speyeria callippe callippe). | CA | Survey | Capture, handle, and release | Renew.
TE-054011 | John Green, Riverside, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi), • Southwestern willow flycatcher (Empidonax traillii extimus), • Quino checkerspot butterfly (Euphydryas editha quino), • Yuma clapper rail (Yuma Ridgway's r.) (Rallus longirostris yumanensis) (R. obsoletus y.), • San Bernardino Merriam's kangaroo rat (Dipodomys merriami parvus). | CA, NV, AZ, TX, NM, UT, CO | Survey | Capture, handle, release, and collect vouchers | Renew.
TE-108683 | Austin Pearson, Coarsegold, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | Renew.
TE-95114C | Todd Easley, San Marcos, California | • Southwestern willow flycatcher (Empidonax traillii extimus). | CA | Survey | Survey | New.
TE-217119 | Carie Wingert, Oakhurst, California | • Tipton kangaroo rat (Dipodomys nitratoides nitratoides), • Giant kangaroo rat (Dipodomys ingens). | CA | Survey | Capture, handle, and release | Renew.
TE-98090C | Fishbio, Oakdale, California | • Tidewater goby (Eucyclogobius newberryi). | CA | Survey | Capture, handle, and release | New.
TE-98105C | Scott Thompson, Tahoe City, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | New.
TE-095860 | Veronica Wunderlich, Pleasant Hill, California | • California tiger salamander (Santa Barbara County and Sonoma County Distinct Population Segment (DPS)) (Ambystoma californiense). | CA | Survey | Capture, handle, transport, and release | Renew.
TE-052744 | Shannon Hickey, Davis, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi), • California tiger salamander (Santa Barbara County and Sonoma County Distinct Population Segment (DPS)) (Ambystoma californiense). | CA | Survey | Capture, handle, release, and collect vouchers | Renew.
TE-98470C | Michael Burleson, Citrus Heights, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | New.
TE-837439 | Guy Bruyea, Hemet, California | • Quino checkerspot butterfly (Euphydryas editha quino), • Delhi Sands flower-loving fly (Rhaphiomidas terminatus abdominalis). | CA | Survey | Survey | Renew.
TE-35000A | University of California, Davis, Davis, California | • Giant kangaroo rat (Dipodomys ingens), • Salt marsh harvest mouse (Reithrodontomys raviventris). | CA | Genetics research | Capture, handle, mark, obtain genetic samples, release | Renew and Amend.
TE-148554 | Amber Heredia, Santa Ana, California | • Southwestern willow flycatcher (Empidonax traillii extimus). | CA, NV, AZ, NM, UT | Survey | Survey | Renew.
TE-98536C | Stillwater Sciences, Mckinleyville, California | • Tidewater goby (Eucyclogobius newberryi), • Sierra Nevada yellow-legged frog (Rana sierrae), • California freshwater shrimp (Syncaris pacifica). | CA | Survey and swab | Capture, handle, swab, and release | New.
TE-83958B | Jared Elia, Concord, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | New.
TE-99108C | Frank Muzio, Alameda, California | • California tiger salamander (Sonoma County Distinct Population Segment (DPS)) (Ambystoma californiense), | CA | Survey | Capture, handle, and release | New.
TE-40090B | Roland Knapp, Mammoth Lakes, California | • Sierra Nevada yellow-legged frog (Rana sierrae), • Mountain yellow-legged frog ((northern California DPS) (Rana muscosa)). | CA | Survey, research studies, and captive rear | Capture, handle, take skin swabs, clip toes, insert PIT tags, collect vouchers, test and treat for disease, transport, and captive rear | Renew and Amend.
TE-217401 | Cristina Slaughter, Santa Barbara, California | • Tidewater goby (Eucyclogobius newberryi). | CA | Survey | Capture, handle, and release | Renew.
TE-142436 | Eric Renfro, Torrance, California | • Delhi Sands flower-loving fly (Rhaphiomidas terminatus abdominalis). | CA | Survey | Survey | Renew.
TE-99114C | Dawn Cunningham, Sacramento, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | New
TE-793640 | Jerry Smith, San Jose, California | • Tidewater goby (Eucyclogobius newberryi). | CA | Survey and research | Capture, handle, collect tissue, and release | Renew.
TE-039640 | Kristopher Alberts, San Diego, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi), • Southwestern willow flycatcher (Empidonax traillii extimus), • Quino checkerspot butterfly (Euphydryas editha quino). | CA, NV | Survey | Capture, handle, release, and collect vouchers | Renew and Amend.
TE-217402 | Julie Love, Santa Barbara, California | • Tidewater goby (Eucyclogobius newberryi). | CA | Survey | Capture, handle, and release | Renew.
TE-34570A | San Francisco Bay Bird Observatory, Milpitas, California | • California least tern (Sternula antillarum browni) (Sterna a. browni). | CA | Research | Float eggs and use decoys | Amend.
TE-797315 | Michael Morrison, College Station, Texas | • Tipton kangaroo rat (Dipodomys nitratoides nitratoides). | CA | Surveys | Capture, handle, and release | New.
TE-98574C | River Design Group, Corvallis, Oregon | • Lost River sucker (Deltistes luxatus), • Shortnose sucker (Chasmistes brevirostris). | CA, OR | Survey, tag, genetic research | Capture, handle, insert PIT tags, collect tissue, and release | New.
TE-817397 | John Storrer, Santa Barbara, California | • California tiger salamander (Santa Barbara County and Sonoma County Distinct Population Segment (DPS)) (Ambystoma californiense). | CA | Survey and collect tissue | Capture, handle, collect tissue, and release | Renew.
TE-02474D | Gaylene Tupen, Lincoln, California | • Conservancy fairy shrimp (Branchinecta conservatio), • Longhorn fairy shrimp (Branchinecta longiantenna), • Vernal pool tadpole shrimp (Lepidurus packardi). | CA | Survey and educational workshops | Capture, handle, release, and collect vouchers | New.
TE-02478D | Jennifer. Jackson, Imperial Beach, California | • California least tern (Sternula antillarum browni) (Sterna a. browni). | CA | Nest monitoring | Nest Monitoring | New.
TE-02480D | Bargas Environmental Consulting, Sacramento, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | New.
TE-081298 | Daniel Weinberg, Albany, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi), • California tiger salamander (Santa Barbara County and Sonoma County Distinct Population Segment (DPS)) (Ambystoma californiense). | CA | Survey | Capture, handle, release, and collect vouchers | Renew.
TE-02481D | Anna Godinho, Oakhurst, California | • Fresno kangaroo rat (Dipodomys nitratoides exilis), • Tipton kangaroo rat (Dipodomys nitratoides nitratoides). | CA | Survey | Capture, handle, and release | New.
TE-02538D | Gregory Wattley, Pittsburg, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | New.
TE-041668 | Cleveland National Forest, San Diego, California | • Southwestern willow flycatcher (Empidonax traillii extimus), • Least Bell's vireo (Vireo belli pusillus), • Arroyo toad (arroyo southwestern) (Anaxyrus californicus), • Dodecahema leptoceras (slender-horned spineflower), • Allium munzii (Munz's onion), • Astragalus brauntonii (Braunton's milkvetch), • Berberis nevinii (Nevin's barberry), • Eryngium aristulatum var. parishii (San Diego button celery), • Poa atropurpurea (San Bernardino bluegrass). | CA | Survey, nest monitoring, and plant collection | Survey, nest monitoring, and plant collection | Renew.
TE-745541 | SJM Biological Consultants, Flagstaff, Arizona | • San Bernardino Merriam's kangaroo rat (Dipodomys merriami parvus), • Stephens' kangaroo rat (Dipodomys stephensi), • Pacific pocket mouse (Perognathus longimembris pacificus), • Amargosa vole (Microtus californicus scirpensis), • Yuma clapper rail (Yuma Ridgway's r.) (Rallus longirostris yumanensis) (R. obsoletus y.). | CA | Survey | Capture, handle, and release | Renew.
TE-094642 | Brad Shaffer, Los Angeles, California | • California tiger salamander (Santa Barbara County Distinct Population Segment (DPS)) (Ambystoma californiense). | CA | Genetic research and mesocosm study | Collect eggs, sacrifice, collect tissue, and PIT tag | Amend.
TE-64146A | Patricia Valcarcel, San Francisco, California | • Conservancy fairy shrimp (Branchinecta conservatio), • Longhorn fairy shrimp (Branchinecta longiantenna), • San Diego fairy shrimp (Branchinecta sandiegonensis), • Riverside fairy shrimp (Streptocephalus woottoni), • Vernal pool tadpole shrimp (Lepidurus packardi). | CA | Survey | Capture, handle, release, and collect vouchers | Amend.
TE-797267 | Triple HS, Inc., Los Gatos, California | • Giant kangaroo rat (Dipodomys ingens). | CA | Habitat restoration | Capture, temporarily hold in captivity, and release | Amend.
TE-62708B | Mary Halterman, Onyx, California | • Southwestern willow flycatcher (Empidonax traillii extimus). | CA | Survey | Survey | Renew and Amend.
TE-53771B | Erin Bergman, La Mesa, California | • El Segundo blue butterfly (Euphilotes battoides allyni). | CA | Survey | Survey | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Angela Picco,
Acting Regional Director, Pacific Southwest Region, Sacramento, California.

[FR Doc. 2018-22250 Filed 10-11-18; 8:45 am]

BILLING CODE 4333-15-P